DEPARTMENT OF DEFENSE

Department of the Air Force

[Docket ID: USAF-2009-0024]

Privacy Act of 1974; System of Records

AGENCY: Department of the Air Force, DoD.

ACTION: Notice to amend a system of records.

SUMMARY: The Department of the Air Force is proposing to amend a system of records notice in its existing inventory of records systems subject to the Privacy Act of 1974, (5 U.S.C. 552a), as amended.

DATES: This proposed action will be effective without further notice on May 14, 2009 unless comments are received which result in a contrary determination.

ADDRESSES: Department of the Air Force Act Privacy Office, Air Force Privacy Act Office, Office of Warfighting Integration and Chief Information Officer, ATTN: SAF/XCPPI, 1800 Air Force Pentagon, Washington DC 20330-1800.

FOR FURTHER INFORMATION CONTACT: Mr. Ben Swilley, 703-696-6648.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: April 9, 2009.
Morgan E. Frazier,
Alternate OSD Federal Register Liaison Officer, Department of Defense.

F011 ACC B

System Name:

Airborne Warning and Control System (AWACS) Records (November 12, 2008, 3 FR 66869).

Changes:

* * * * *

System Name:

Delete entry and replace with “Command and Control Management System Records.”

* * * * *

Safeguards:

Delete entry and replace with “The Command and Control Management System (C2MS)” provides detailed and specific access levels and permissions to ensure that only authorized users have access to read and or write information, or perform other operations with the system. Access will be granted using the Common Access Card (CAC) or username/password security model. A combination of physical, personnel, and system-enforced security mechanisms control access. All accesses, whether procedural or system- enforced, is adjudicated based on each person's authorized “need-to-know.”

* * * * *

Notification procedure:

Delete entry and replace with “Individuals seeking to determine whether this system of records contains information about themselves should address written inquiries to the Department of Air Force, 552d Air Control Group (552 ACG), ATTN: C2MS PGM, 7575 Sentry Blvd, Suite 117, Tinker AFB, OK 73127-9037.

Individuals may also contact the system manager at each unit utilizing C2MS or the Host Database Manager. Official mailing addresses are published as an appendix to the Air Force's compilation of systems of records notices.

The requester must submit a written request to 552d Air Control Group (552 ACG), Attn: C2MS Program Manager, 7575 Sentry Blvd, Ste 117, Tinker AFB, OK 73145-2713.

Requests for information should be as specific as possible. The requester must describe the records that he/she seeks in enough detail to enable C2MS personnel to locate them in a reasonable amount of time. Request such as “all documents related to * * * are extremely difficult and costly to process because they require extensive search of numerous C2MS files. In contrast, a request for a specific document can generally be processed quicker. Such requests should include specific information about each record sought, such as the date, title or name, author, recipient and subject matter of the record.

A C2MS request can be made for any record. However, this does not mean that the C2MS discloses all of the requested records. If the information is of a sensitive nature, C2MS will specify which exemption permits the withholding.”

Record access procedures:

Delete entry and replace with “Individuals seeking access to information about themselves contained in this system should address written inquiries to 552d Air Control Group (552 ACG), ATTN: C2MS PGM, 7575 Sentry Blvd, Suite 117, Tinker AFB, OK 73127-9037.

Individuals may also contact the system manager at each unit utilizing C2MS or the Host Database Manager. Official mailing addresses are published as an appendix to the Air Force's compilation of systems of records notices.”

* * * * *

Record source categories:

Delete entry and replace with “Automated system interfaces and source documents. C2MS has an interface with the Air Force Resource Management System (AFORMS).”

* * * * *

F011 ACC B

System name:

Command and Control Management System Records.

System location:

Department of Air Force, 552d Air Control Wing, Tinker AFB, 552d Air Control Group (552 ACG) 7575 Sentry Blvd, Suite 117, Tinker AFB, OK 73145-9037.

Official mailing addresses are published as an appendix to the Air Force's compilation of systems of records notices.

Categories of individuals covered by the system:

Air Force active duty military personnel, Air Force civilian employees, Air Force contractors, Air Force Reserve and those foreign military personnel who are attached to the U.S. Air Force (USAF) for flying support.

Categories of records in the system:

Personnel records related to an individual's ancillary training, qualifications, and schedules. Data fields contained in the records include; full name, e-mail address, Social Security Number (SSN), work phone, location, organization, job series, and grade.

Authority for Maintenance of the System:

5 U.S.C. 301, Departmental Regulations; 10 U.S.C. 8013, Secretary of the Air Force; AFI 11-202V2 ACC Sup Aircrew Standardization/Evaluation Program; AFI 11-401 Aviation Management; ACCI 11-464 Training Records and Performance Evaluation in Formal Flying Training Programs; and E.O. 9397 (SSN).

Purpose(s):

To manage and administer Air Force aviation and non-flying operations. This includes aircrew training and evaluation, flight schedule functions, flying safety and related functions needed to attain and maintain combat or mission readiness, ancillary training, scheduling functions, mobility/deployment requirements tracking.

Routine uses of records maintained in the system, including categories of users and the purposes of such uses:

In addition to those disclosures generally permitted under 5 U.S.C. 552a(b) of the Privacy Act of 1974, these records contained therein, may specifically be disclosed outside the DOD as a routine use pursuant to 5 U.S.C. 552a(b)(3) as follows:

The DoD ‘Blanket Routine Uses' published at the beginning of the Air Force's compilation of systems of records notices apply to this system.

Policies and practices for storing, retrieving, accessing, retaining, and disposing of records in the System:

Storage:

Electronic storage media.

Retrievability:

Individual's name and/or Social Security Number (SSN).

Safeguards:

The Command and Control Management System (C2MS) provides detailed and specific access levels and permissions to ensure that only authorized users have access to read and or write information, or perform other operations with the system. Access will be granted using the Common Access Card (CAC) or username/password security model. A combination of physical, personnel, and system-enforced security mechanisms control access. All accesses, whether procedural or system-enforced, is adjudicated based on each person's authorized “need-to-know.”

Retention and disposal:

Maintained until superseded, obsolete, or no longer needed. Destroy paper records by tearing, pulping, burning, shredding, or macerating. Destroy computer records by overwriting or degaussing.

System Manager and address:

Chief, Maintenance Data Systems Analysis Section, Department of Air Force, 552d Air Control Group (552 ACG), ATTN: C2MS PGM, 7575 Sentry Blvd., Suite 117, Tinker AFB, OK 73127-9037.

Notification procedure:

Individuals seeking to determine whether this system of records contains information about themselves should address written inquiries to the Department of Air Force, 552d Air Control Group (552 ACG), ATTN: C2MS PGM, 7575 Sentry Blvd., Suite 117, Tinker AFB, OK 73127-9037.

Individuals may also contact the system manager at each unit utilizing C2MS or the Host Database Manager. Official mailing addresses are published as an appendix to the Air Force's compilation of systems of records notices.

The requester must submit a written request to 552d Air Control Group (552 ACG), Attn: C2MS Program Manager, 7575 Sentry Blvd., Ste. 117, Tinker AFB, OK 73145-2713.

Requests for information should be as specific as possible. The requester must describe the records that he/she seeks in enough detail to enable C2MS personnel to locate them in a reasonable amount of time. Requests such as “all documents related to * * *” are extremely difficult and costly to process because they require extensive search of numerous C2MS files. In contrast, a request for a specific document can generally be processed quicker. Such requests should include specific information about each record sought, such as the date, title or name, author, recipient and subject matter of the record.

A C2MS request can be made for any record. However, this does not mean that the C2MS discloses all of the requested records. If the information is of a sensitive nature, C2MS will specify which exemption permits the withholding.

Record access procedures:

Individuals seeking access to information about themselves contained in this system should address written inquiries to 552d Air Control Group (552 ACG), ATTN: C2MS PGM, 7575 Sentry Blvd., Suite 117, Tinker AFB, OK 73127-9037.

Individuals may also contact the system manager at each unit utilizing C2MS or the Host Database Manager. Official mailing addresses are published as an appendix to the Air Force's compilation of systems of records notices.

Contesting records procedures:

The Air Force rules for accessing records and for contesting contents and appealing initial agency determinations are published in Air Force Instruction 37-132; 32 CFR part 806b; or may be obtained from the system manager.

Record source categories:

Automated system interfaces and source documents. C2MS has an interface with the Air Force Resource Management System (AFORMS).

Exemptions claimed for the system:

None.

[FR Doc. E9-8433 Filed 4-13-09; 8:45 am]

BILLING CODE 5001-06-P